DEPARTMENT OF COMMERCE

[I.D. 051104D]

Submission for OMB Review; Comment Request

The Department of Commerce has submitted to the Office of Management and Budget (OMB) for clearance the following proposal for collection of information under the provisions of the Paperwork Reduction Act (44 U.S.C. Chapter 35).

Agency: National Oceanic and Atmospheric Administration (NOAA).

Title: Management and Oversight of the National Estuarine Research Reserve System.

Form Number(s): None.

OMB Approval Number: 0648-0121.

Type of Request: Regular submission.

Burden Hours: 14,105.

Number of Respondents: 28.

Average Hours Per Response: 522.

Needs and Uses: The National Estuarine Research Reserve System consists of carefully-selected estuarine areas of the U.S. that are designated, preserved, and managed for research and educational purposes. The information is needed from states to review proposed designations. Sites selected must develop management plans. The grantees must submit annual work plans/reports.

Affected Public: State, Local or Tribal Government, and not-for-profit institutions.

Frequency: Annually, on occasion.

Respondent's Obligation: Required to obtain or retain benefits.

OMB Desk Officer: David Rostker, (202) 395-3897.

Copies of the above information collection proposal can be obtained by calling or writing Diana Hynek, Departmental Paperwork Clearance Officer, (202) 482-0266, Department of Commerce, Room 6625, 14th and Constitution Avenue, NW, Washington, DC 20230 (or via the Internet at dHynek@doc.gov).

Written comments and recommendations for the proposed information collection should be sent within 30 days of publication of this notice to David Rostker, OMB Desk Officer, FAX number 202-395-7285, or David_Rostker@omb.eop.gov.

Dated: May 11, 2004.
Gwellnar Banks,
Management Analyst, Office of the Chief Information Officer.

[FR Doc. 04-11159 Filed 5-14-04; 8:45 am]

BILLING CODE 3510-22-S